TENNESSEE VALLEY AUTHORITY

Environmental Impact Statement for Addition of Electric Generation Baseload Capacity in Tennessee

AGENCY: Tennessee Valley Authority.

ACTION: Notice of intent.

SUMMARY: The Tennessee Valley Authority (TVA) will prepare an environmental impact statement (EIS) for the proposed construction and operation of a natural gas-fired generating plant in Tennessee. The plant would supply intermediate or baseload capacity to the TVA electric generation system to meet growing power demands. The EIS will evaluate the potential environmental impacts of constructing and operating a combined cycle combustion turbine plant. TVA is considering sites near its 500 kV Franklin substation, including at least one site on the U.S. Air Force's Arnold Engineering Development Center, near Tullahoma, Tennessee. TVA will use the EIS process to obtain public involvement on this proposal. Public comment is invited concerning both the scope of the EIS and environmental issues that should be addressed as a part of this EIS.

DATES: Comments on the scope and environmental issues for the EIS must be postmarked or e-mailed no later than April 16, 2001, to ensure consideration. Late comments will receive every consideration possible.

ADDRESSES: Written comments should be sent to Bruce L. Yeager, Senior Specialist, National Environmental Policy Act, Tennessee Valley Authority, mail stop WT 8C, 400 West Summit Hill Drive, Knoxville, Tennessee 37902-1499. Comments may be e-mailed to blyeager@tva.gov.

FOR FURTHER INFORMATION CONTACT: Roy V. Carter, P.E., EIS Project Manager, Environmental Research Center, Tennessee Valley Authority, mail stop CEB 4C, Muscle Shoals, Alabama 35662-1010. E-mail may be sent to rvcarter@tva.gov.

SUPPLEMENTARY INFORMATION:

Project Description

TVA proposes to construct and operate an electric power plant as early as June 2003. The proposed plant would be a combined cycle natural gas-fired combustion turbine plant for baseload or intermediate operation. Low sulfur fuel oil could be used as a backup fuel, depending on fuel pricing and availability. The generation capacity of a plant would be typically 510 megawatt (MW). Candidate sites were identified through a detailed screening process that considered: (1) TVA's transmission system capacity at the locale; (2) reliable and economical long-term supply of natural gas; (3) engineering suitability of the site; (4) compatibility with surrounding land use; and (5) environmental factors including wetlands, floodplains, water supply, water quality, air quality, and historic and archaeological resources.

A plant could consist of two combustion turbines such as the General Electric Model GE 7FA with a rated net power output of 170 MW each. Two heat recovery steam generators (HRSG) would be used to generate steam from the turbine exhaust gas waste heat. The HRSGs may also have direct firing of natural gas to supplement the exhaust heat content. The resulting steam flow is then passed through a steam turbine which operates a generator to produce an additional 170 MW.

The proposed sites would be located near both TVA power transmission lines (161 kilovolt (kV) or 500 kV) and adequate natural gas service to minimize the lengths, and therefore cost, of these interconnections. Additional ancillary equipment beyond that required for a peaking plant would include cooling towers that supply cooling water for steam condensers. These cooling towers require a source of water to make up for both evaporative losses and the blowdown necessary to maintain water quality in the cooling tower. As a result, there would be an intake pumping station constructed in a large stream to supply the water. In the case of AEDC sites, the water supply source is anticipated to be the Woods Reservoir. A water pipeline would be constructed to connect the water supply with the plant. The cooling tower blowdown is a heated wastewater with a high dissolved solids content requiring treatment and/or disposal. Typical practice would be to construct a pipeline to a receiving stream having the capacity to assimilate the wastewater. An alternative would be to treat the blowdown on-site and recycle the water as cooling tower makeup water. This option would require construction of an onsite treatment facility and disposal of resulting sludge. Additionally, a water treatment facility would be required to supply demineralized water for various plant uses.

A short natural gas pipeline lateral would be needed to connect the sites with gas supplies and 20 or so miles of existing high pressure gas line upstream of the tap point would be upgraded.

TVA's Integrated Resource Plan and the Need for Power

This EIS will tier from TVA's Energy Vision 2020: An Integrated Resource Plan and Final Programmatic Environmental Impact Statement. Energy Vision 2020 was completed in December 1995 and a Record of Decision issued on February 28, 1996 (61 FR 7572). Energy Vision 2020 analyzed a full range of supply-side and demand-side options to meet customer energy needs for the period 1995 to 2020. These options were ranked using several criteria including environmental performance. Favorable options were formulated into strategies. A group of options drawn from several effective strategies was chosen as TVA's preferred alternative. The supply-side options selected to meet peaking and baseload capacity needs through the 2005 period included: (1) Addition of simple cycle or combined cycle combustion turbines to TVA's generation system, (2) purchase of call options for peaking or baseload capacity, and (3) market purchases of peaking or baseload capacity. The short-term action plan of Energy Vision 2020 identified a need for 3,000 MW of baseload and peaking additions through the year 2002. This is in addition to the baseload capacity additions of the successful completion of Watts Bar Nuclear Plant Unit 1 and the return to service of Browns Ferry Nuclear Plant Unit 3.

Each year TVA provides updated projections of supply and demand for the TVA sub-region of the Southeastern Electric Reliability Council (SERC) for the U.S. Department of Energy's annual report EIA-411. The 1999 report shows expected baseload demands growing at 2.2 percent from 1999 to 2003 and beyond. The net capacity resources needed to meet the growth in demand increases 2,000 megawatts by year 2001, and 3,400 megawatts by year 2003. (See line item 13 on Table—Item 2.1 Projected Capacity and Demand—Summer of the EIA-411 report.) The addition of the combustion turbines is needed by TVA to meet projected regional power demand for baseload capacity.

Since 1995 additional power needs have been met or will be met in the following ways: (1) Continuing modernization of existing TVA hydroelectric plants (both conventional and pumped storage) will add approximately 388 MW of peaking capacity through 2002; (2) the Red Hills Power Project, a 440 MW lignite coal fired plant will begin commercial baseload operation in 2001 (TVA Record of Decision, 63 FR 44944); (3) 680 MW of simple cycle combustion turbines were constructed at the TVA Johnsonville and Gallatin Fossil Plants and began operation during June and July 2000 (TVA Record of Decision, 64 FR 38932); (4) 680 MW of simple cycle combustion turbines are under construction at the Lagoon Creek Combustion Turbine Plant site in Haywood County, Tennessee, with commercial operation as early as June 2001 (TVA Record of Decision, 65 FR 30469); (5) 340 MW of simple cycle combustion turbines are planned for a site near DeKalb in Kemper County, Mississippi, with commercial operation expected by June or July 2002 (Notice for Draft EIS, 65 FR 78484, Record of Decision expected in May 2001); (6) various power purchase agreements in effect over this period; (7) demand side customer service programs continue to be implemented through TVA power distributors with an estimated 154 MW of capacity added from 1995 through 1999 and an additional 264 MW from 2000 through 2002; (8) operation of the 14 MW emergency diesel generators at the unfinished Bellefonte Nuclear Power Plant site; and (9) a Green Power Program that would begin in 2000 as a market test with several MW of capacity. Technologies for this program may include landfill gas, photovoltaics, and wind.

Because Energy Vision 2020 identified and evaluated alternative supply-side and demand-side energy resources and technologies for meeting peak and baseload capacity needs, this EIS will not reevaluate those alternatives. This EIS will focus on the site-specific impacts of constructing and operating combustion turbine combined cycle plants at candidate sites.

Proposed Issues To Be Addressed

The EIS will describe the existing environmental and socioeconomic resources at and in the vicinity of each candidate site that would be affected by construction and operation of a power plant. TVA's evaluation of environmental impacts to these resources will include, but not necessarily be limited to the potential impacts on air quality, water quality, aquatic and terrestrial ecology, endangered and threatened species, wetlands, aesthetics and visual resources, noise, land use, historic and archaeological resources, and socioeconomic resources.

Alternatives

The results of evaluating the potential environmental impacts and other important issues identified in the scoping process, as well as, engineering and economic considerations will be used by TVA in selecting a preferred alternative. At this time, the range of alternatives TVA is considering for detailed evaluation include no action and construction and operation of a combined cycle baseload plant at one of the candidate sites.

Scoping Process

Scoping, which is integral to the NEPA process, is a procedure that solicits public input to the EIS process to ensure that: (1) Issues are identified early and properly studied; (2) issues of little significance do not consume substantial time and effort; (3) the draft EIS is thorough and balanced; and (4) delays caused by an inadequate EIS are avoided. TVA's NEPA procedures require that the scoping process commence soon after a decision has been reached to prepare an EIS in order to provide an early and open process for determining the scope and for identifying the significant issues related to a proposed action. The scope of alternatives and issues to be addressed in the draft EIS will be determined, in part, from written comments submitted by mail or e-mail, and comments presented orally or in writing at public meetings. The preliminary identification in this notice of reasonable alternatives and environmental issues is not meant to be exhaustive or final.

The scoping process will include both interagency and public scoping. The public is invited to submit written comments or e-mail comments on the scope of this EIS no later than the date given under the DATES section of this notice.

TVA conducted a public scoping meeting near the proposed sites. The meeting was held at the University of Tennessee Space Institute main auditorium near Tullahoma, Tennessee, on March 8, 2001. At the meeting, TVA management and project staff presented overviews of the EIS process and the proposed power plant project, answered questions and solicited comments on the issues that the public would like addressed in the EIS. These meetings were publicized through notices in local newspapers, by TVA press releases, and in meetings between TVA officials and local elected officials preceding the public meetings.

The agencies to be included in the interagency scoping are U.S. Fish and Wildlife Service, U.S. Army Corps of Engineers, Tennessee Department of Environment and Conservation, the Tennessee State Historic Preservation Officer, the U.S. Air Force and other federal, state, and local agencies, as appropriate.

After consideration of the scoping comments, TVA will further develop alternatives and environmental issues to be addressed in the EIS. Following analysis of the environmental consequences of each alternative, TVA will prepare a draft EIS for public review and comment. Notice of availability of the draft EIS will be published by the Environmental Protection Agency in the Federal Register. TVA will solicit written comments on the draft EIS, and information about possible public meetings to comment on the draft EIS will be announced. TVA expects to release a draft EIS by June 2001 and a final EIS by September 2001.

Dated: March 8, 2001.
Kathryn J. Jackson,
Executive Vice President, River System Operations & Environment.

[FR Doc. 01-6333 Filed 3-13-01; 8:45 am]

BILLING CODE 8120-08-U